FEDERAL MARITIME COMMISSION

Notice of Agreements Filed

The Commission hereby gives notice of the filing of the following agreements under the Shipping Act of 1984. Interested parties may submit comments on the agreements to the Secretary, Federal Maritime Commission, Washington, DC 20573, within twelve days of the date this notice appears in the Federal Register. Copies of the agreements are available through the Commission's website (www.fmc.gov) or by contacting the Office of Agreements at (202) 523-5793 or tradeanalysis@fmc.gov.

Agreement No.: 012136-003.

Title: HSDG/ML/MSC Space Charter Agreement.

Parties: Hamburg-Sud, Maersk Line A/S, and MSC Mediterranean Shipping Company S.A.

Filing Parties: Wayne R. Rohde, Esq.; Cozen O'Connor; 1200 19th Street NW; Washington, DC 20036.

Synopsis: The amendment would delete Hamburg Sud as a party to the agreement, change the name of agreement, and restate agreement.

Agreement No.: 201256.

Title: Maersk/MSC Gulf-ECSA Vessel Sharing Agreement.

Parties: Maersk Line A/S and MSC Mediterranean Shipping Company S.A.

Filing Party: Wayne Rohde; Cozen O'Connor; 1200 19th Street, NW; Washington, DC 20036.

Synopsis: The agreement would authorize the parties to share vessels in the trade between the U.S. Gulf Coast on the one hand and ports in Brazil, Colombia, Mexico and Panama on the other hand.

By Order of the Federal Maritime Commission.
Dated: May 25, 2018.
Rachel Dickon,
Secretary.

[FR Doc. 2018-11723 Filed 5-30-18; 8:45 am]

BILLING CODE 6731-AA-P